DEPARTMENT OF AGRICULTURE

Agricultural Marketing Service

[Doc. No. FV-04-328]

United States Standards for Grades of Frozen Celery

AGENCY: Agricultural Marketing Service, USDA.

ACTION: Notice.

SUMMARY: The Agricultural Marketing Service (AMS) of the Department of Agriculture (USDA) is establishing the United States Standards for Grades of Frozen Celery. USDA received a petition from a grower and a processor of celery to create grade standards for frozen celery that will include a description of the product, style, sample unit size, grades, ascertaining the grade by sample, and ascertaining the grade by lot. The standard is intended to provide a common language for trade, and a means of measuring value in the marketing of frozen celery.

EFFECTIVE DATE: January 9, 2004.

FOR FURTHER INFORMATION CONTACT: Karen L. Kaufman, Processed Products Branch, Fruit and Vegetable Programs, Agricultural Marketing Service, U.S. Department of Agriculture, STOP 0247, 1400 Independence Avenue SW., Washington, DC 20250-0247; fax (202) 690-1087; or e-mail karen.kaufman@usda.gov.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices * * *.” AMS is committed to carrying out this authority in a manner that facilitates the marketing of agricultural commodities and makes copies of official standards available upon request. The United States Standards for Grades of Fruits and Vegetables are maintained by USDA/AMS/Fruit and Vegetable Programs and may be obtained by writing to the above address or on the internet at: http://www.ams.usda.gov/standards/standpfv.htm.

AMS is establishing the U.S. Standards for Grades of Frozen Celery using the procedures that appear in part 36 of title 7 of the Code of Federal Regulations (7 CFR part 36).

Proposed by the Petitioner

The petitioner, a grower and a processor of celery, requested that USDA develop a standard for frozen celery to be used by the industry. The petitioner provided information on style, sample size and description to AMS to develop the standard. AMS visited the petitioner's facility to collect information on grades of frozen celery and how to ascertain the grade of a sample and of a lot.

AMS prepared a discussion draft of the frozen celery standard, and distributed copies for input to the petitioner, the American Frozen Food Institute (AFFI), and the National Food Processors Association (NFPA). Input from the above groups was used to develop the standard.

Proposed by Fruit and Vegetable Programs, AMS

The first notice proposing to create a new United States Standards for Grades of Frozen Celery was published based on the petition in the May 2, 2001 Federal Register. A second notice was published in the February 20, 2003 Federal Register (68 FR 8196) based on comments received from the first notice. AMS received three comments in response to the second notice. All of the responses were in favor of the new standard. These comments are available by accessing AMS's Home Page on the Internet at: http://www.ams.usda.gov/fv/ppb.html.

Based on recommendations from the commentors the following changes were made to the standard, add “Bias sliced celery” to Section 2.6681. Styles of frozen celery. (a) Sliced celery; changes to Table I—Allowances for Defects in Frozen Celery include the addition of “bias sliced” celery with “sliced” style; for blemished and seriously blemished units no unit larger than a ¼″, for insect damage no larger than ⅛″; for grades of “sliced” , “bias” and “diced” style: blemished Grade “A” maximum of 3% by weight, Grade “B” maximum of 4% by weight, seriously blemished Grade “A” maximum of 1% by weight, Grade “B” maximum of 2% by weight, for mechanical damage, crushed or broken units for Grade “B” no more than 3% by weight and “sliced” and “bias” style extraneous vegetable material allowed in Grade “A” one piece, and Grade “B” two pieces.

Accordingly, AMS is establishing the United States Standard for Grades of Frozen Celery. The U.S. Standards for Grades of Frozen Celery following the standard format for U.S. Grade Standards. AMS is establishing the definition of “frozen celery” and including “sliced”, “bias” and “diced” as the style designations in the standard. Finally, this standard defines the quality factors that affect frozen celery and determine sample unit sizes for this commodity.

This standard establishes the grade levels “A”, “B” and “Substandard” and assigns the corresponding score points for each level. The tolerance for each quality factor as defined for each grade level is established.

The grade of a sample unit of frozen celery will be ascertained by considering the factors of varietal characteristics flavor and odor, which are not scored; the ratings for the factors of color, defects, and character, which are scored; the total score; and the limiting rules which apply. This standard will provide a common language for trade, a means of measuring value in the marketing of frozen celery, and provide guidance in the effective utilization of frozen celery. The official grade of a lot of frozen celery covered by these standards will be determined by the procedures set forth in the Regulations Governing Inspection and Certification of Processed Products Thereof, and Certain Other Processed Food Products (§ 52.1 to 52.83).

The U.S. Standards for Grades of Frozen Celery will become effective 30 days after publication of this notice in the Federal Register.

Authority: 7 U.S.C. 1621-1627.

Dated: December 4, 2003.
A.J. Yates,
Administrator, Agricultural Marketing Service.

[FR Doc. 03-30605 Filed 12-9-03; 8:45 am]

BILLING CODE 3410-02-P